DEPARTMENT OF TRANSPORTATION

Maritime Administration

[Docket Number: MARAD-2000-7245]

Requested Administrative Waiver of the Coastwise Trade Laws

AGENCY: Maritime Administration, Department of Transportation.

ACTION: Invitation for public comments on a requested administrative waiver of the Coastwise Trade Laws for the vessel YANKEE.

SUMMARY: As authorized by Public Law 105-383, the Secretary of Transportation, as represented by the Maritime Administration (MARAD), is authorized to grant waivers of the U.S. build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub.L. 105-383 and MARAD's regulations at 46 CFR 388 (65 FR 6905; February 11, 2000) that the issuance of the waiver will have an unduly adverse effect on a U.S.-vessel builder or a business that uses U.S.-flag vessels, a waiver will not be granted.

DATES: Submit comments on or before May 18, 2000.

ADDRESSES: Comments should refer to docket number MARAD-2000-7245. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR 832 Room 7201, 400 Seventh Street, SW, Washington, DC 20590. Telephone 202-366-0760.

SUPPLEMENTARY INFORMATION: Title V of P.L. 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commentor's interest in the waiver application, and address the waiver criteria given in § 388.4 of MARAD'S regulations at 46 CFR 388.

Vessel Proposed for Waiver of the U.S.-Build Requirement

(1) Name of vessel and owner for which waiver is requested:

Name of vessel: YANKEE Owner: Yankee Sailing LLC.

(2) Size, capacity and tonnage of vessel: According to the Applicant “50′ 7” OAL, Breadth 15.6′, draft 4.4′ Gross tonnage 12 tons, Net Tonnage 11. Tons, Displacement 38 tons. (Title 46 U.S.C. simplified measurement system.)”

(3) Intended use for vessel, including geographic region of intended operation and trade. According to the applicant: “Intended use, Geographic area: Carrying passengers for hire for coastal sailing excursions for sail and navigational training purposes where passengers are encouraged and taught to participate in the operation of the vessel. Pending USCG certification of the vessel these excursions will involve 6 passengers or less. If certification is obtained under this waiver, the number of passengers will not exceed 12 passengers. Current plans are to operate the vessel along the Northeast coast between New York and Eastport Maine. It is intended that the center of operation will be out of New London CT.”

(4) Date and place of construction and (if applicable) rebuilding. Date of construction: 1959, place of construction: Scheepswerf Westhaven, Zaadam, Holland.

(5) A statement on the impact this waiver will have on other commercial passenger vessel operators. According to the applicant: “The impact would be minimal. There are currently no sailing vessels carrying passengers out of the New London harbor. Neighboring harbors that have commercial sailing vessels are mostly offering day trips of two to three hours as opposed to inter port excursions.”

(6) A statement on the impact this waiver will have on U.S. shipyards. According to the applicant: “Since the vessel was purchased by the current owner and documented as a U.S. vessel in January of 1999, over $50,000 dollars has been spent on the vessel in local boat yards and on U.S. manufactured wiring, plumbing and electronics products. If the vessel can establish itself in the area as a successful small business with USCG certification it will continue to require the services of the local marine industry here in eastern Connecticut.”

Dated: April 13, 2000.
By order of the Maritime Administrator.
Joel C. Richard,
Secretary, Maritime Administration.

[FR Doc. 00-9682 Filed 4-17-00; 8:45 am]

BILLING CODE 4910-81-P